DEPARTMENT OF STATE

[Public Notice 8562]

In the Matter of the Designation of Al-Mulathamun Battalion, Also Known as al-Mulathamun Brigade, Also Known as al-Muwaqqi'un bil-Dima, Also Known as Those Signed in Blood Battalion, Also Known as Signatories in Blood, Also Known as Those who Sign in Blood, Also Known as Witnesses in Blood, Also Known as Signed-in-Blood Battalion, Also Known as Masked Men Brigade, Also Known as Khaled Abu al-Abbas Brigade, Also Known as al-Mulathamun Masked Ones Brigade, Also Known as al-Murabitoun, Also Known as The Sentinels; as a Specially Designated Global Terrorist Pursuant to Section 1(b) of Executive Order 13224, as Amended.

Acting under the authority of and in accordance with section 1(b) of Executive Order 13224 of September 23, 2001, as amended by Executive Order 13268 of July 2, 2002, and Executive Order 13284 of January 23, 2003, I hereby determine that the entity known as the al-Mulathamun Battalion, also known as al-Mulathamun Brigade, also known as al-Muwaqqi'un bil-Dima, also known as Those Signed in Blood Battalion, also known as Signatories in Blood, also known as Those who Sign in Blood, also known as Witnesses in Blood, also known as Signed-in-Blood Battalion, also known as Masked Men Brigade, also known as Khaled Abu al-Abbas Brigade, also known as al-Mulathamun Masked Ones Brigade, also known as al-Murabitoun, also known as The Sentinels, committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: December 6, 2013.
John F. Kerry,
Secretary of State.

[FR Doc. 2013-30252 Filed 12-18-13; 8:45 am]

BILLING CODE 4710-10-P